DEPARTMENT OF HOMELAND SECURITY

[Docket No. DHS-2022-0049]

Faith-Based Security Advisory Council

AGENCY: Office of Partnership and Engagement (OPE), Department of Homeland Security (DHS).

ACTION: Notice of open Federal Advisory Committee meeting.

SUMMARY: The Faith-Based Security Advisory Council (FBSAC) will meet virtually on Thursday, October 6, 2022. The meeting will be open to the public.

DATES: The meeting will take place from 10:30 a.m. EDT to 11:30 a.m. EDT on Thursday, October 6, 2022. Please note that the meeting may end early if the Council has completed its business.

ADDRESSES: The FBSAC meeting will be held via teleconference. Members of the public interested in participating may do so by following the process outlined below. At all times during the meeting, the public will be in listen-only mode. Written comments can be submitted from September 22, 2022 to October 4, 2022. Comments must be identified by Docket No. DHS-2022-0049 and may be submitted by one of the following methods:

• Federal eRulemaking Portal: http://www.regulations.gov. Follow the instructions for submitting comments.

• Email: FBSAC@hq.dhs.gov. Include Docket No. DHS-2022-0049 in the subject line of the message.

• Mail: Michael J. Miron, Committee Management Officer, Office of Partnership and Engagement, Mailstop 0385, Department of Homeland Security, 2707 Martin Luther King Jr. Ave. SE, Washington, DC 20528.

Instructions: All submissions received must include the words “Department of Homeland Security” and “DHS-2022-0049,” the docket number for this action. Comments received will be posted without alteration at http://www.regulations.gov, including any personal information provided. You may wish to review the Privacy and Security Notice found via a link on the homepage of http://www.regulations.gov.

Docket: For access to the docket to read comments received by the Council, go to http://www.regulations.gov, search “DHS-2022-0049,” “Open Docket Folder” and provide your comments.

FOR FURTHER INFORMATION CONTACT: Michael J. Miron at 202-891-2876 or FBSAC@hq.dhs.gov.

SUPPLEMENTARY INFORMATION: Notice of this meeting is given under section 10(a) of the Federal Advisory Committee Act (FACA), Public Law 92-463 (5 U.S.C. appendix), which requires each FACA committee meeting to be open to the public unless the President, or the head of the agency to which the advisory committee reports, determines that a portion of the meeting may be closed to the public in accordance with 5 U.S.C. 552b(c).

The FBSAC provides organizationally independent, strategic, timely, specific, and actionable advice to the Secretary through the OPE Assistant Secretary, who serves as the DHS Faith-Based Organizations Security Coordinator, on security and preparedness matters related to places of worship, faith communities, and faith-based organizations. The Council consists of members who are: faith-based organization security officials; faith-based organization leaders; faith leaders; state and local public safety, law enforcement, and emergency management leaders; and a representative from the Department of Justice or Federal Bureau of Investigation.

The agenda for the meeting is as follows: Council members will be introduced, followed by the virtual swearing-in of new members. DHS senior leadership will provide opening remarks, followed by a moderated discussion.

Members of the public may register to participate in this Council teleconference via the following procedures. Each individual must provide their full legal name and email address no later than 5 p.m. EDT on Tuesday, October 4, 2022 to Michael J. Miron of the Council via email to FBSAC@hq.dhs.gov or via phone at 202-891-2876. Members of the public who have registered to participate will be provided the conference call details after the closing of the public registration period and prior to the start of the meeting.

For information on services for individuals with disabilities, or to request special assistance, please email FBSAC@hq.dhs.gov by 5 p.m. EDT on October 4, 2022 or call 202-891-2876. The FBSAC is committed to ensuring all participants have equal access regardless of disability status. If you require a reasonable accommodation due to a disability to fully participate, please contact Michael J. Miron at 202-891-2876 or FBSAC@hq.dhs.gov as soon as possible.

Dated: September 14, 2022.
Michael J. Miron,
Committee Management Officer, Department of Homeland Security.

[FR Doc. 2022-20197 Filed 9-19-22; 8:45 am]

BILLING CODE 9112-FN-P